DEPARTMENT OF COMMERCE

National Oceanic and Atmospheric Administration

50 CFR Part 679

[Docket No. 010112013-1073-03; I.D. 020901F]

Fisheries of the Exclusive Economic Zone Off Alaska; Final Rule; Adjustment to Emergency Interim Rule

AGENCY: National Marine Fisheries Service (NMFS), National Oceanic and Atmospheric Administration (NOAA), Commerce.

ACTION: Final Rule; adjustment to the emergency interim rule for Steller Sea Lion Protection Measures for the Groundfish Fisheries Off Alaska; Final 2001 Harvest Specifications and Associated Management Measures for the Groundfish Fisheries Off Alaska.

SUMMARY: NMFS issues a final rule adjusting the seasonal apportionments of the 2001 Pacific halibut bycatch limits specified for the trawl and hook-and-line groundfish fisheries of the Gulf of Alaska (GOA). This action is necessary to optimize the harvest of Pacific cod under new Steller sea lion protection measures implemented under an emergency interim rule, which was effective on January 18, 2001.

DATES: Effective March 23, 2001, through 2400 hrs, A.l.t., July 17, 2001.

FOR FURTHER INFORMATION CONTACT: Mary Furuness, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act (Magnuson-Stevens Act). Regulations governing fishing by U.S. vessels in accordance with the FMP appear at subpart H of 50 CFR part 600 and 50 CFR part 679.

In December 2000, the Council’s Advisory Panel recommended seasonal Pacific halibut prohibited species catch (PSC) apportionments in order to maximize harvest among gear types, fisheries, and seasons while minimizing bycatch of Pacific halibut PSC. The seasonal apportionments of the Pacific halibut PSC were published in Tables 24 and 25 in the preamble of the emergency interim rule implementing the Steller Sea Lion Protection Measures for the Groundfish Fisheries Off Alaska; Final 2001 Harvest Specifications and Associated Management Measures for the Groundfish Fisheries Off Alaska (66 FR 7276, January 22, 2001). At an emergency January 12, 2001, meeting, NMFS presented the Council with the 2001 Steller sea lion protection measures, one of which separates the GOA Pacific cod total allowable catch (TAC) into two separate seasonal allowances. The A season, January 1, 2001, through noon, A.l.t., June 10, 2001, is allocated 60 percent of the annual TAC. The B season, starting at noon, A.l.t., June 10, 2001, through midnight, A.l.t., December 31, 2001, is allocated 40 percent of the annual TAC. Trawl gear bycatch of Pacific halibut in the GOA Pacific cod fishery is deducted from the Pacific halibut PSC seasonal allowance established for the shallow-water species trawl fishery. Hook-and-line gear bycatch of Pacific halibut in the GOA Pacific cod fishery is deducted from the Pacific halibut PSC seasonal allowance established for the hook-and-line gear fishery, other than the demersal shelf rockfish fishery. Under § 679.21(d)(5), in order to accommodate the new Pacific cod seasons and optimize the harvest of Pacific cod, the Council recommended, and NMFS concurred, to move 100 metric tons of the Pacific halibut trawl PSC limit for the shallow-water species trawl fishery from the June 10 through July 1 seasonal allowance to the January 20 through April 1 seasonal allowance. Also, the Council recommended, and NMFS concurred, to move 30 mt of the Pacific halibut hook-and-line PSC limit from May 18 through August 31 seasonal allowance to the January 1 through May 17 seasonal allowance.

Tables 24 and 25 of the Steller Sea Lion Protection Measures for the Groundfish Fisheries Off Alaska; Final 2001 Harvest Specifications and Associated Management Measures for the Groundfish Fisheries Off Alaska (66 FR 7276, January 22, 2001) are adjusted to read as follows:

Table 24.—Final 2001 Pacific Halibut PSC Limits, Allowances, and Apportionments. The Pacific Halibut PSC Limit For Hook-and-Line Gear Is Allocated To the Demersal Shelf Rockfish (DSR) Fishery and Fisheries Other Than DSR. The Hook-and-Line Sablefish Fishery Is Exempt From Halibut PSC Limits. (Values are in mt.)
Trawl gear: Dates | Trawl gear: Amount | Hook-and-line gear: Other than DSR: Dates | Hook-and-line gear: Other than DSR: Amount | Hook-and-line gear: DSR: Dates | Hook-and-line gear: DSR: Amount
Jan 1-Apr 1 | 550 ( 28%) | Jan 1-May 17 | 205 (70%) | Jan 1-Dec 31 | 10 (100%)
Apr 1-Jun 10 | 400 ( 20%) | May 17-Aug 31 | Any rollover |  |
Jun 10-Jul 1 | 150 (7%) | Aug 31-Dec 31 | 85 (30%) |  |
Jul 1-Oct 1 | 600 (30%) |  |  |  |
Oct 1-Dec 31 | 300 (15%) |  |  |  |
Total | 2,000 (100%) |  | 290 (100%) |  | 10 (100%)

Table 25 - Final 2001 Apportionment of Pacific Halibut PSC Trawl Limits Between the Trawl Gear Deep-Water Species Complex and the Shallow-Water Species Complex. (Values are in mt.)
Season | Shallow-water | Deep-water | Total
Jan. 20-Apr. 1 | 450 | 100 | 550
Apr. 1-Jun. 10 | 100 | 300 | 400
Jun. 10-Jul. 1 | 150 | 0 | 150
Jul. 1-Oct. 1 | 200 | 400 | 600
Subtotal |  |  |
Jan. 20-Sep. 30 | 900 | 800 | 1,700
Oct. 1-Dec. 31 |  |  | 300
Total |  |  | 2,000
No apportionment between shallow-water and deep-water fishery complexes during the 4th quarter.

Classification

The Administrator, Alaska Region (Regional Administrator), NMFS, has determined that this rule is necessary for the conservation and management of the groundfish fisheries of the BSAI and GOA. The Regional Administrator also determined that this rule is consistent with the Magnuson-Stevens Act and other applicable laws.

This final rule has been determined to be not significant for purposes of Executive Order 12866. This rule contains no reporting, recordkeeping, or compliance requirements, and no relevant Federal rules exist which may duplicate, overlap, or conflict with this rule.

This adjustment must be implemented immediately to avoid foregone catch in the A season GOA Pacific cod fishery. GOA Pacific cod is typically harvested in the first 3 months of the year. By increasing the amount of halibut PSC available in the first few months of the year, this adjustment will accommodate the new Pacific cod seasons and optimize the harvest of Pacific cod. Therefore, NMFS finds that good cause exists to waive the requirement to provide prior notice and opportunity for public comment pursuant to the authority set forth at 5 U.S.C. 553(b)(3)(B) and 50 CFR 679.20(b)(3)(iii)(A), as such procedures would be unnecessary and contrary to the public interest. Similarly, the need to implement these measures in a timely fashion to optimize the harvest of GOA Pacific cod constitutes good cause to find that the effective date of this action cannot be delayed for 30 days. Accordingly, under 5 U.S.C. 553(d), a delay in the effective date is hereby waived.

Because prior notice and opportunity for public comment are not required for this final rule by 5 U.S.C. 553, or any other law, the analytical requirements of the Regulatory Flexibility Act, 5 U.S.C. 601 et seq., are not applicable. Thus no initial or final regulatory flexibility analysis has been prepared.

Dated: March 23, 2001.
William T. Hogarth,
Acting Assistant Administrator for Fisheries, National Marine Fisheries Service.

[FR Doc. 01-7667 Filed 3-23-01; 4:30 pm]

BILLING CODE 3510-22-S